DEPARTMENT OF LABOR

Employment and Training Administration

[TA-W-54,221]

Greif Brothers Service Corporation Industrial Packaging and Service Division Kingsport, TN; Dismissal of Application for Reconsideration

Pursuant to 29 CFR 90.18(C) an application for administrative reconsideration was filed with the Director of the Division of Trade Adjustment Assistance for workers at Greif Brothers Service Corporation, Industrial Packaging and Service Division, Kingsport, Tennessee. The application contained no new substantial information which would bear importantly on the Department's determination. Therefore, dismissal of the application was issued.

TA-W-54,221; Greif Brothers Service Corporation Industrial Packaging and Service Division Kingsport, Tennessee (May 7, 2004)

Signed at Washington, DC this 13th day of May 2004.
Timothy Sullivan,
Director, Division of Trade Adjustment Assistance.

[FR Doc. 04-11623 Filed 5-21-04; 8:45 am]

BILLING CODE 4510-30-P